COMMISSION ON CIVIL RIGHTS

Agenda and Notice of Public Meeting of the Maine State Advisory Committee

Notice is hereby given, pursuant to the provisions of the rules and regulations of the U.S. Commission on Civil Rights (Commission), and the Federal Advisory Committee Act (FACA) that a planning meeting of the Maine Advisory Committee to the Commission (Committee) will convene by conference call at 9:30 a.m. (EST) on Wednesday, December 14, 2011. The purpose of the meeting is to plan future activities.

This meeting is available to the public through the following toll-free call-in number: (800) 399-0013; the conference call access code number 31521613. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-(800) 877-8339 and providing the Service with the conference call number and contact name Ivy Davis.

Members of the public are entitled to submit written comments; the comments must be received in the regional office by January 14, 2012. Comments may be mailed to the Eastern Regional Office (ERO), U.S. Commission on Civil Rights, 624 9th Street, NW., Washington, DC 20425 or emailed to ero@usccr.gov. Persons who desire additional information may contact ERO by email at ero@usccr.gov or by telephone at (202) 376-7533.

Records generated from this meeting may be inspected and reproduced at the Eastern Regional Office, as they become available, both before and after the meeting. Persons interested in the work of the Committee are directed to the Commission's Web site, http://www.usccr.gov, or may contact ERO at the above telephone number, email or street address.

The meeting will be conducted pursuant to the rules and regulations of the Commission and FACA.

Dated in Washington, DC, November 23, 2011.
Peter Minarik,
Acting Chief, Regional Programs Coordination Unit.

[FR Doc. 2011-30823 Filed 11-29-11; 8:45 am]

BILLING CODE 6335-01-P